DEPARTMENT OF HEALTH AND HUMAN SERVICES

Centers for Disease Control and Prevention

Reorganization of the Office of Financial Resources

AGENCY: Centers for Disease Control and Prevention (CDC), the Department of Health and Human Services (HHS).

ACTION: Notice.

SUMMARY: CDC has modified its structure. This notice announces the reorganization of the Office of Financial Resources (OFR) and the CDC Immediate Office of the Director (IOD). OFR added a branch and a new office was established within the CDC IOD.

DATES: This reorganization was approved by the Director of CDC on June 20, 2024, and became effective.

FOR FURTHER INFORMATION CONTACT: Victoria Hunter, Centers for Disease Control and Prevention, 1600 Clifton Road NE, MS H21-12, Atlanta, GA 30329. Telephone 404-639-7124; Email: vdp5@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 89 FR 19832, dated March 20, 2024) is amended to reflect the reorganization of Office of Financial Resources and the CDC Immediate Office of the Director, Centers for Disease Control and Prevention. Specifically, the changes are as follows:

I. Under Part C, Section C-B, Organization and Functions, make the following changes:

• Abolish the Office of Appropriations (CAJE14)

• Establish the Budget Formulation Branch (CAJEVR)

• Establish the Office of Budget Policy and Appropriations (CAR)

II. Under Part C, Section C-B, Organization and Functions, after the Budget Execution Services Branch 4 (CAJEVQ) insert the following:

Budget Formulation Branch (CAJEVR). (1) manages and coordinates development of the budget for CDC and ATSDR from submissions prepared by Center//Institute/Office contacts; (2) formulates the CDC and ATSDR financial plan, and evaluates and assures total budget requests conform to current administration policy and economic assumptions in coordination with CIOs; (3) coordinates with the Office of Planning, Performance, and Evaluation to include the Government Performance and Results Act (GPRA) Modernization Act performance measures with budget proposals to HHS, OMB and Congress; (4) prepares periodic summary analysis and impact statements on budget allowances and applicable congressional actions; (5) develops analyses of proposed budget estimates and supporting narrative through the use of available financial data reporting systems for senior CDC management; (6) maintains liaison with HHS, OMB, the Government Accountability Office, and other government organizations on CDC's financial management matters; (7) collaborates with other parts of CDC in the development and implementation of long-range program and financing plans; (8) completes requirements in timing and reporting of cleared information to parties outside the Executive Branch (i.e., Congress, media, public); and (9) develops and presents analyses, special reports, background exhibits, and graphical material on budget proposals, budget activities, and related matters.

After the Office of Policy, Performance, and Evaluation (CAQ) insert the following: Office of Budget Policy and Appropriations (CAR). The Office of Budget Policy and Appropriations: (1) provides leadership, consultation, guidance, and advice on matters of public health and budget policy; (2) leads all Centers for Disease Control and Prevention (CDC) and Agency for Toxic Substances and Disease Registry (ATSDR) Congressional appropriations leadership activities including strategic outreach and interaction with Congressional appropriators on appropriations/budget matters; (3) supports the Office of Financial Resources in the development of CDC's and ATSDR's annual funding request in accordance with Department of Health and Human Services (HHS), Office of Management and Budget (OMB), and Congressional requirements, policies, procedures, and regulations; (4) maintains liaison with the HHS Office of the Secretary (OS), OMB, other government organizations, and Congress on appropriations and budget policy matters; (5) develops materials for, and participates in, budget policy and financial reviews and hearings before HHS, OMB, and Congress; (6) collaborates with CDC Washington Office (CDC/W) and other parts of CDC, and outside stakeholders, in the development and implementation of agency-wide legislative strategy; (7) advances the CDC policy agenda through interactions with appropriations leadership; (8) coordinates with Centers/Institute/Offices on Congressional appropriations leadership strategy and interactions, ensuring a unified presentation of CDC interests to legislators; (9) leads the development and updates to spend plans for CDC supplemental funding, infectious diseases rapid response reserve fund requests, and new budget programs; (10) tracks, analyzes, and reports on appropriations legislation; (11) protects and advances the agency's reputation, scientific credibility, and interests; (12) informs CDC leadership of current developments and provides insight into the budget policy environment; and (13) coordinates, with the CDC/W and CIO partnership activities that relate to budget policy and appropriations to advance the agency's priorities.

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2024-15099 Filed 7-9-24; 8:45 am]

BILLING CODE 4163-18-P